DEPARTMENT OF LABOR

Employment and Training Administration

[TA-W-82,702; TA-W-82,702A; TA-W-82,702B]

Electrolux Home Care Products, Inc., a Subsidiary of Electrolux North America, Inc., Electrolux Major Appliances, 1700 West Second Street, Webster City, Iowa; Leased Workers from Cornerstone, Working On-Site at Electrolux Home Care Products, Inc., Webster City, Iowa; Electrolux Home Care Products, Inc., a Subsidiary of Electrolux North America, Inc., Electrolux Major Appliances, Including On-Site Leased Workers From Per Mar Security, 400 Des Moines Street, Webster City, Iowa; Amended Certification Regarding Eligibility To Apply for Worker Adjustment Assistance

In accordance with Section 223 of the Trade Act of 1974, as amended (“Act”), 19 U.S.C. 2273, the Department of Labor issued a Certification of Eligibility to Apply for Worker Adjustment Assistance on May 10, 2013, applicable to workers of Electrolux Home Care Products, Inc., Electrolux Major Appliances, a subsidiary of Electrolux North America, Inc., Webster City, Iowa (TA-W-82,702) and leased workers from Cornerstone working on-site at Electrolux Home Care Products, Inc., Webster City, Iowa (TA-W-82,702A). The workers are engaged in activities related to the production of laundry products and related technical services. The notice was published in the Federal Register on May 30, 2013 (78 FR 32466).

At the request of the State agency, the Department reviewed the certification for workers of the subject firm. New information shows that worker separations occurred during the relevant time period at the 400 Des Moines Street, Webster City, Iowa location of Electrolux Home Care Products, Inc., a subsidiary of Electrolux North America, Inc., Electrolux Major Appliances. The worker group also includes on-site leased workers from Per Mar Security. A shift in the production of laundry products and related technical services to Mexico contributed importantly to worker separations at the 400 Des Moines Street facility and the 1700 West Second Street facility of the subject firm.

Accordingly, the Department is amending the certification to include workers of the 400 Des Moines Street, Webster City, Iowa of Electrolux Home Care Products, Inc., a wholly owned subsidiary of Electrolux North America, Inc., Electrolux Major Appliances, including on-site leased workers from Per Mar Security.

The amended notice applicable to TA-W-82,702, TA-W-82,702A and TA-W-82,702B are hereby issued as follows:

All workers of Electrolux Home Care Products, Inc., a subsidiary of Electrolux North America, Inc., Electrolux Major Appliances Division, Webster City, Iowa, (TA-W-82,702), who became totally or partially separated from employment on or after February 16, 2013, through May 10, 2015, and all workers in the group threatened with total or partial separation from employment on the date of certification through two years from the date of certification, are eligible to apply for adjustment assistance under Chapter 2 of Title II of the Trade Act of 1974, as amended, AND

All leased workers from Cornerstone, working on-site at Electrolux Home Care Products, Inc., Webster City, Iowa, (TA-W-82,702A) who became totally or partially separated from employment on or after April 29, 2012, through May 10, 2015, and all workers in the group threatened with total or partial separation from employment on the date of certification through two years from the date of certification, are eligible to apply for adjustment assistance under Chapter 2 of Title II of the Trade Act of 1974, as amended, AND

All workers Electrolux Home Products, Inc., a subsidiary of Electrolux North America, Inc., Electrolux Major Appliances, 400 Des Moines Street, Webster City, Iowa (TA-W-82,702B) who became totally or partially separated from employment on or after June 18, 2013, through May 10, 2015, and all workers in the group threatened with total or partial separation from employment on the date of certification through two years from the date of certification, are eligible to apply for adjustment assistance under Chapter 2 of Title II of the Trade Act of 1974, as amended,

Signed in Washington, DC, this 18th day of June, 2013.
Michael W. Jaffe,
Certifying Officer, Office of Trade Adjustment Assistance.

[FR Doc. 2013-15742 Filed 7-1-13; 8:45 am]

BILLING CODE 4510-FN-P